DEPARTMENT OF COMMERCE

National Oceanic and Atmospheric Administration

RIN 0648-XV14

Pacific Halibut Fishery; Guideline Harvest Levels for the Charter Vessel Fishery for Pacific Halibut in International Pacific Halibut Commission Areas 2C and 3A

AGENCY: National Marine Fisheries Service (NMFS), National Oceanic and Atmospheric Administration (NOAA), Commerce.

ACTION: Notice of guideline harvest level.

SUMMARY: NMFS provides notice of the 2010 Pacific halibut guideline harvest levels (GHLs) for the charter vessel fishery in International Pacific Halibut Commission (IPHC) regulatory areas (Area) 2C and 3A. This notice is necessary to meet the regulatory requirement to publish notice announcing the GHLs and to inform the public about the 2010 GHLs for the charter vessel fishery for halibut. The GHLs are benchmark harvest levels for participants in the charter vessel fishery. The 2010 GHLs remain the same as the 2009 GHLs; the Area 2C GHL is 788,000 lb (357.4 mt), and the Area 3A GHL is 3,650,000 lb (1,655.6 mt).

DATES: The GHLs are effective beginning February 1, 2010, through December 31, 2010. This period is specified by IPHC as the sport fishing season in all waters in and off Alaska.

FOR FURTHER INFORMATION CONTACT: Peggy Murphy, (907) 586-7228.

SUPPLEMENTARY INFORMATION:

Background

In 2003, NMFS implemented a final rule (68 FR 47256, August 8, 2003) to establish GHLs for Pacific halibut (Hippoglossus stenolepis) harvested by the charter vessel fishery in IPHC regulatory area (Area) 2C and Area 3A. Regulations implementing the GHLs have been amended twice. In 2008, the GHL table was corrected at 50 CFR 300.65(c)(1) (73 FR 30504, May 28, 2008). In 2009, regulatory provisions were amended for NMFS' annual publication of the GHL notice and to clarify NMFS' authority to take action at any time to limit the charter vessel angler catch to the GHL (74 FR 21194, May 6, 2009).

This notice is consistent with § 300.65(c) and announces the 2010 GHLs for the charter vessel fishery for halibut in IPHC Areas 2C and 3A. Regulations at § 300.65(c)(1) specify the GHLs based on the total constant exploitation yield (CEY) that is established annually by the IPHC. The total CEY for 2010 is 5,020,000 lb (2,277 mt) in Area 2C, and 26,192,000 lb (11,880 mt) in Area 3A. The corresponding GHLs are 788,000 lb (357.4 mt) in Area 2C, and 3,650,000 lb (1,655.6 mt) in Area 3A. The GHLs in Areas 2C and 3A did not change from the 2009 level. NMFS may take action at any time to limit the charter halibut harvest to as close to the GHL as practicable (50 CFR 300.65 (c)(3)).

NMFS is in the process of implementing a new limited entry system for charter vessels in the guided sport fishery for halibut in Areas 2C and 3A. Beginning in 2011, the limited access system limits the number of charter vessels that may participate in the fishery to qualified business owners (75 FR 554, January 5, 2010). The North Pacific Fishery Management Council also has proposed alternative management measures to allocate an annual halibut catch limit established by the IPHC between the commercial and charter vessel fisheries. If approved by the Secretary of Commerce, this new allocation program would not be effective before 2012.

Authority: 16 U.S.C. 773 et seq.

Dated: March 30, 2010.
Emily H. Menashes,
Acting Director, Office of Sustainable Fisheries, National Marine Fisheries Service.

[FR Doc. 2010-7626 Filed 4-2-10; 8:45 am]

BILLING CODE 3510-22-S